FEDERAL COMMUNICATIONS COMMISSION

47 CFR Part 73

[DA 00-2609, MM Docket No. 99-288; RM-9708 & 9801]

Radio Broadcasting Services; Sister Bay, WI and Escanaba, MI

AGENCY: Federal Communications Commission.

ACTION: Final rule.

SUMMARY: This document allots Channel 286A at Sister Bay, Wisconsin, in response to a petition filed by Michael J. Mesic. See 64 FR 52488, September 29, 1999. The coordinates for Channel 286A at Sister Bay are 45-14-19 and 87-05-17. In response to a counterproposal filed by KMB Broadcasting, Inc., we shall substitute Channel 284C for Channel 284C1 at Escanaba, Michigan, and modify the license for Station WYKX to specify operation on Channel 284C.¹ The coordinates for Channel 284C are 46-05-31 and 87-09-50. Canadian concurrence has been received for the allotment of Channels 286A at Sister Bay and Channel 284C at Escanaba.

¹ Station WYKX, Channel 284, Escanaba, Michigan, was downgraded from Class C to Class C1 by cancellation of BPH-870302NI as modified by BMPH-911120IE on October 21, 1998. See 52 FR 10757, April 3, 1987. However, as the FM Table of Allotments has not been amended to reflect the change in class from a C to C1, there is no need to amend the Table.

DATES: Effective January 2, 2001

FOR FURTHER INFORMATION CONTACT: Kathleen Scheuerle, Mass Media Bureau, (202) 418-2180.

SUPPLEMENTARY INFORMATION: This is a summary of the Commission's Report and Order, MM Docket No. 99-288, adopted November 8, 2000, and released November 17, 2000. The full text of this Commission decision is available for inspection and copying during normal business hours in the Commission's Reference Center, 445 12th Street, SW., Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Wisconsin, is amended by adding Sister Bay, Channel 286A.

Federal Communications Commission.
John A. Karousos,
Chief, Allocations Branch, Policy and Rules Division, Mass Media Bureau.

[FR Doc. 00-30502 Filed 11-29-00; 8:45 am]

BILLING CODE 6712-01-P